DEPARTMENT OF COMMERCE

Foreign-Trade Zones Board

[B-41-2020]

Foreign-Trade Zone (FTZ) 22—Chicago, Illinois; Authorization of Production Activity; Volflex, Inc. (Flexible Packaging) Mokena, Illinois

On June 22, 2020, the Illinois International Port District, grantee of FTZ 22, submitted a notification of proposed production activity to the FTZ Board on behalf of Volflex, Inc., within FTZ 22, in Mokena, Illinois.

The notification was processed in accordance with the regulations of the FTZ Board (15 CFR part 400), including notice in the Federal Register inviting public comment (85 FR 39163, June 30, 2020), and a correction notice (85 FR 40620, July 7, 2020). On October 20, 2020, the applicant was notified of the FTZ Board's decision that no further review of the activity is warranted at this time. The production activity described in the notification was authorized, subject to the FTZ Act and the FTZ Board's regulations, including Section 400.14.

Dated: October 20, 2020.
Andrew McGilvray,
Executive Secretary.

[FR Doc. 2020-23531 Filed 10-22-20; 8:45 am]

BILLING CODE 3510-DS-P